DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Coastal Ocean Program Grants Proposal Application Package.

OMB Control Number: 0648-0384.

Form Number(s): NA.

Type of Request: Regular submission.

Number of Respondents: 250.

Average Hours per Response: Abstract summary, 30 minutes; annual report, 5 hours; and final report, 10 hours.

Burden Hours: 850.

Needs and Uses: The National Ocean and Atmospheric Administration's (NOAA's) National Ocean Service (NOS), Coastal Ocean Program (COP) provides direct financial assistance in the form of discretionary research grants and cooperative agreements under its own program for the management of coastal ecosystems.

The COP is part of a unique Federal-academic partnership designed to provide predictive capability for managing coastal ecosystems. Under the authority of 33 U.S.C. 1442, “Research program respecting possible long-range effects of pollution, overfishing, and man-induced changes of ocean ecosystems”, COP supports research on critical issues associated with the Nation's estuaries, coastal waters and the Great Lakes, and translates its finding into accessible information for coastal managers, planners, lawmakers and the public. COP's projects are multi-disciplinary, large in scale and long in duration (usually three to five years). Grants monies are available for related activities. In addition to the standard grant application and budget forms, applicants for COP grants provide a project summary with their applications, as well as annual and final project reports.

Affected Public: Not-for-profit institutions.

Frequency: Annually, one-time only, and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 1, 2009.
Gwellnar Banks,
Management Analyst, Office of the Chief Information Officer.

[FR Doc. E9-24009 Filed 10-5-09; 8:45 am]

BILLING CODE 3510-22-P